DEPARTMENT OF JUSTICE

Antitrust Division

Notice Pursuant to the National Cooperative Research and Production Act of 1993—Medical CBRN Defense Consortium

Notice is hereby given that, on May 14, 2018, pursuant to Section 6(a) of the National Cooperative Research and Production Act of 1993, 15 U.S.C. § 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Spero Therapeutics, Inc., Cambridge, MA; DCN Diagnostics, Carlsbad, CA; Silver Lake Research Corporation, Azusa, CA; Coagulant Therapeutics, Mill Valley, CA; Duke University, Durham, NC; International AIDS Vaccine Initiative (IAVI), New York, NY; AN2 Therapeutics, Inc., Menlo Park, CA; University of Nevada Reno, Reno, NV; New Mexico Institute of Mining and Technology, Socorro, NM; VecTOR Test Systems, Inc., Thousand Oaks, CA; The Regents of the University of California, Irvine, Irvine, CA; The Wistar Institute, Philadelphia, PA; Chenega Support Services, LLC, San Antonia, TX; PlantVax Inc., Rockville, MD; Binergy Scientific, Inc., Atlanta, GA; Zeteo Tech, Inc., Sykesville, MD; The Regents of University of New Mexico, Health Sciences Center, Albuquerque, NM; Rubicon Biotechnology, Lake Forest, CA; Innovative Emergency Management, Inc. (IEM), Arlington, VA; Macromoltek, Austin, TX; Paratek Pharmaceuticals, Boston, MA; Terminal Horizon Operations and Resourcing, Inc. (THOR), St. Petersburg, FL; Phosphorex Inc., Hopkinton, MA; Celina Tent, Inc., Celina, OH; Medinstill Development LLC, New Milford, CT; BioHybrid Solutions LLC, Pittsburgh, PA; GeneCapture Inc., Huntsville, AL; University of Arizona (Arizona Board of Regents), Tucson, AZ; Peregrine Technical Solutions, LLC, Yorktown, VA; and DxDiscovery, Inc., Reno, NV, have been added as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on January 16, 2018. A notice was published in the Federal Register pursuant to Section 6(b) of the Act on February 27, 2018 (83 FR 8506).

Patricia A. Brink,
Director of Civil Enforcement, Antitrust Division.

[FR Doc. 2018-13061 Filed 6-18-18; 8:45 am]

BILLING CODE 4410-11-P